DEPARTMENT OF STATE

[Public Notice 5932]

Reinstatement of Statutory Debarment Under the International Traffic in Arms Regulations

ACTION: Notice.

SUMMARY: Notice is hereby given that the Department of State has lifted the statutory debarment against Equipment & Supply, Inc. (ESI) pursuant to Section 38 (g)(4) of the Arms Export Control Act (AECA) (22 U.S.C. 2778).

DATES: Effective Date: Effective July 30, 2007.

FOR FURTHER INFORMATION CONTACT: David Trimble, Director, Office of Defense Trade Controls Compliance, Bureau of Political-Military Affairs, Department of State (202) 663-2477.

SUPPLEMENTARY INFORMATION: Section 38(g)(4) of the AECA (22 U.S.C. 2778) and Section 127.11 of the ITAR prohibit the issuance of export licenses or other approvals to a person, or any party to the export, who has been convicted of violating the AECA and certain other U.S. criminal statutes enumerated at Section 38(g)(1)(A) of the AECA and Section 120.27 of the ITAR. A person convicted of violating the AECA is also subject to statutory debarment under Section 127.7 of the ITAR.

In August 2004, ESI was convicted of one count of violating Section 38 of the AECA and the ITAR. Mr. Andrew Adams, then president of ESI, separately pled guilty to one count of violating 18 U.S.C. Section 1361 by attempting to commit depredation against property manufactured for the United States. Count one of Mr. Adams' indictment (02-CR-262) alleges that he attempted to export a defense article specifically designed or modified for use in the S-65 Sikorsky military helicopter. Subsequently, the Department of State statutorily debarred ESI (see 70 FR 189, September 30, 2005). Because Mr. Adams is affiliated with the debarred entity, the presumption of denial for licenses or other State authorizations was applied to him as well.

Section 38(g)(4) of the AECA permits termination of debarment after consultation with the other appropriate U.S. agencies and after a thorough review of the circumstances surrounding the conviction and a finding that appropriate steps have been taken to mitigate any law enforcement concerns. The Department of State has determined that ESI has taken appropriate steps to address the causes of the violations and to mitigate any law enforcement concerns. Therefore, in accordance with Section 38(g)(4) of the AECA, the debarment against ESI was rescinded, effective July 30, 2007. The presumption of denial for licenses or other State authorizations applied to Mr. Adams has also been lifted. The effect of this notice is that ESI and Mr. Adams may participate without prejudice in the export of defense articles and defense services subject to Section 38 of the AECA and the ITAR.

Dated: August 22, 2007.
Stephen D. Mull,
Acting Assistant Secretary of State, Bureau of Political-Military Affairs Department of State.

[FR Doc. E7-17902 Filed 9-10-07; 8:45 am]

BILLING CODE 4710-25-P